DEPARTMENT OF HEALTH AND HUMAN SERVICES

Health Care Financing Administration

[Document Identifier: HCFA-10016]

Emergency Clearance: Public Information Collection Requirements Submitted to the Office of Management and Budget (OMB)

AGENCY: Health Care Financing Administration, HHS.

In compliance with the requirement of section 3506(c)(2)(A) of the Paperwork Reduction Act of 1995, the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the Information collections referenced below. In compliance with the requirement of section 3506(c)(2)(A) of the Paperwork Reduction Act of 1995, we have submitted to the Office of Management and Budget (OMB) the following requirements for emergency review. We are requesting an emergency review because the collection of this information is needed prior to the expiration of the normal time limits under OMB's regulations at 5 C.F.R., Part 1320 and is essential to the mission of the Agency. The Agency cannot reasonably comply with the normal clearance procedures because of a statutory deadline imposed by section 4319 of the Balanced Budget Act of 1997. Without this information, HCFA would not be able to properly implement all of the requirements set forth in the statute prior to the statute's sunset provision, causing a statutorily ordered deadline to be missed. Lastly, emergency clearance is requested because public harm will likely result if the normal clearance procedures are followed. Studies by the Government Accounting Office and the Office of the Inspector General have found that Medicare payments for items of durable medical equipment are far greater than prices paid by other insurers and are sometimes greater than prices available to the general public at retail outlets. And, the payments provided under Medicare fee schedules often represent unreasonably high markups from actual prices paid by suppliers. The use of the standard OMB approval process will cause the nonfulfillment the statutory requirements set forth in section 4319 of the Balance Budget Act of 1997 that seek to address these issues, resulting in public harm by allowing the unnecessary loss of public Medicare trust fund dollars.

HCFA is requesting OMB review and approval of this collection by 8/23/2000, with a 180-day approval period. Written comments and recommendations will be accepted from the public if received by the individuals designated below by 8/21/2000. During this 180-day period, we will publish a separate Federal Register notice announcing the initiation of an extensive 60-day agency review and public comment period on these requirements. We will submit the requirements for OMB review and an extension of this emergency approval.

Type of Information Collection Request: New Collection;

Title of Information Collection: Oxygen Consumer Survey: Medical Equipment and Supplies Consumer Survey;

Form No.: HCFA-10016 (OMB# 0938-NEW);

Use: The Oxygen Consumer Survey and Medical Equipment and Supplies Consumer Survey will be used to collect information from Medicare beneficiaries who use oxygen equipment, hospital beds, wheelchairs, orthotics, and inhalation drugs used with a nebulizer. This information will be used to evaluate the Health Care Financing Administration's (HCFA's) Competitive Bidding Demonstration for Durable Medical Equipment (DME) and Prosthetics, Orthotics, and Supplies (POS). In the demonstration, HCFA will use competitive bidding to set Medicare Part B fees for selected types of DME and POS.

The purpose of the evaluation is to determine whether the demonstration affects Medicare expenditures, access to care, quality of care, diversity of product selection, and industry competitiveness. The evaluation will also examine any problems associated with implementing competitive bidding for Part B services. Results of the evaluation will be used by HCFA and Congress to determine whether it is feasible to expand competitive bidding.

The research questions to be addressed by the surveys focus on access, quality, and product selection. Our information collection process will include fielding a survey for oxygen users and a survey for other medical equipment and supplies users before the demonstration begins and again after the new demonstration prices have been put into effect. Beneficiaries within the demonstration area will be surveyed; we will also survey beneficiaries within a control site that is similar to the demonstration site in terms of population, managed care penetration, volume of services, and number of beneficiaries. We will also control for socioeconomic factors when analyzing the data. This design will allow us to separate the effects of the demonstration from beneficiary- or site-specific effects.

This evaluation has been expanded to a second site, San Antonio, Texas, as of Mach 2000. The Balanced Budget Act of 1997 allowed for the demonstration to be conducted in up to three different regions. The demonstration has been ongoing in the first site, Polk County, Florida, since 1999. The baseline Polk County beneficiary surveys were conducted between March and June of 1999. The follow-up Polk County beneficiary surveys will be conducted during the fall of 2000.

We are seeking approval for the new beneficiary surveys (Baseline and Follow-up) for the San Antonio demonstration and comparison site and any subsequent demonstration and comparison sites that include the same DME and POS products. The surveys for the second site, San Antonio, are almost identical to the surveys used in the first site, Polk County, Florida.;

Frequency: Annually;

Affected Public: Individuals or Households;

Number of Respondents: 2,500;

Total Annual Responses: 2,500;

Total Annual Hours: 725.

To obtain copies of the supporting statement and any related forms for the proposed paperwork collections referenced above, access HCFA's Web Site address at http://www.hcfa.gov/regs/prdact95.htm, or E-mail your request, including your address, phone number, to Paperwork@hcfa.gov, or call the Reports Clearance Office on (410) 786-1326.

Interested persons are invited to send comments regarding the burden or any other aspect of these collections of Information requirements. However, as noted above, comments on these Information collection and recordkeeping requirements must be mailed and/or faxed to the designees referenced below, within ten working days:

Health Care Financing Administration, Office of Information Services, Security and Standards Group, Division of HCFA Enterprise Standards, Attention: Dawn Willinghan, Room N2-14-26, 7500 Security Boulevard, Baltimore, Maryland 21244-1850

and

Office of Information and Regulatory Affairs, Office of Management and Budget, Room 10235, New Executive Office Building, Washington, DC 20503, Fax Number: (202) 395-6974 or (202) 395-5167, Attn: Allison Herron Eydt, HCFA Desk Officer.

Dated: July 31, 2000.
John P. Burke III,
HCFA Reports Clearance Officer, HCFA, Office of Information Services, Security and Standards Group, Division of HCFA Enterprise Standards.

[FR Doc. 00-20285 Filed 8-9-00; 8:45 am]

BILLING CODE 4120-03-P